DEPARTMENT OF VETERANS AFFAIRS

Annual Pay Ranges for Physicians, Dentists, and Podiatrists of the Veterans Health Administration (VHA)

AGENCY: Department of Veterans Affairs.

ACTION: Notice.

SUMMARY: VA is hereby giving notice of annual pay ranges, which is the sum of the base pay rate and market pay for VHA physicians, dentists, and podiatrists as prescribed by the Secretary for Department-wide applicability. These annual pay ranges are intended to enhance the flexibility of the Department to recruit, develop, and retain the most highly qualified providers to serve the Nation's veterans and maintain a standard of excellence in the VA health care system.

DATES: Annual pay ranges are applicable beginning on October 5, 2025.

FOR FURTHER INFORMATION CONTACT: James Tolley, Veterans Health Administration, (843) 864-3630.

SUPPLEMENTARY INFORMATION: Under 38 U.S.C. 7431(e)(1)(A), not less often than once every 2 years, the Secretary must prescribe for Department-wide applicability the minimum and maximum amounts of annual pay that may be paid to VHA physicians, dentists, and podiatrists. 38 U.S.C. 7431(e)(1)(B) allows the Secretary to prescribe separate minimum and maximum amounts of annual pay for a specialty or assignment. Pursuant to 38 U.S.C. 7431(e)(1)(C), amounts prescribed under paragraph 7431(e) shall be published in the Federal Register and shall not take effect until at least 60 days after date of publication.

In addition, under 38 U.S.C. 7431(e)(4), the total amount of compensation paid to a physician, dentist, or podiatrist cannot exceed, in any year, the amount of annual compensation (excluding expenses) of the President. For the purposes of subparagraph 7431(e)(4), “the total amount of compensation” includes base pay, market pay, performance pay, and fee basis earnings, but excludes recruitment, relocation, and retention incentives ¹ and incentive awards for performance and special contributions from total compensation calculations.

¹ In accordance with Title IX, Section 906 of the “Sergeant First Class Heath Robinson Honoring our Promise to Address Comprehensive Toxics (PACT) Act of 2022” (Pub. L. 117-168 dated August 10, 2022), recruitment, relocation, and retention incentives, along with performance awards, shall not be considered in calculating the limitation under 38 U.S.C. 7431(e)(4).

Background

On December 3, 2004, the President signed the “Department of Veterans Affairs Health Care Personnel Enhancement Act of 2004” (Pub. L. 108-445). The major provisions of the law established a new pay system for VHA physicians and dentists consisting of base pay, market pay, and performance pay. While the base pay component is set by statute, market pay is intended to reflect the recruitment and retention needs for the specialty or assignment of a particular physician or dentist at a facility. Further, performance pay is intended to recognize the achievement of specific goals and performance objectives prescribed annually. These three components create a system of pay that is driven by both market indicators and employee performance, while recognizing employee tenure in VHA.

On April 8, 2019, the President signed Public Law 116-12, which amended 38 U.S.C. 7431 to include podiatrists within the physician and dentist pay system, authorizing podiatrists to receive base pay, market pay, and performance pay. With the amendment, podiatrists are also subject to the same limitations and requirements as physicians and dentists under section 7431.

Regarding the pay tables for physicians, dentists, and podiatrists, VA will be making changes to the maximum amounts for pay table 1, adding a tier to pay table 2, increasing the minimum and maximum ranges for pay table 3, and removing a tier in pay table 3.

Discussion

VA identified and utilized salary survey data sources which most closely represent VA comparability in the areas of practice setting, employment environment, and hospital/health care system. The Gallagher 2023 Physician Compensation and Production Survey, Mercer 2023 U.S. Integrated Health Networks Physician Practices/Outpatient Facilities, and Sullivan Cotter 2023 Physician Compensation and Productivity Survey report were collectively utilized as benchmarks from which to prescribe annual pay ranges across the scope of assignments/specialties within the Department.

In constructing annual pay ranges to accommodate the more than 40 specialties that currently exist in the VA system, VA continued the practice of grouping specialties into consolidated pay ranges. This allows VA to use multiple sources that yield a high number of salary data which helps to minimize disparities and aberrations that may surface from data involving smaller numbers for comparison and from sample change from year to year. Thus, by aggregating multiple survey sources into like groupings, greater confidence exists that the average compensation reported is truly representative. In addition, aggregation of data provides for a large enough sample size and provides pay ranges with maximum flexibility for pay setting for VHA physicians, dentists, and podiatrists.

In developing the annual pay ranges, a few distinctive principles were factored into the compensation analysis of the data. The first principle is to ensure that both the minimum and maximum salary is at a level that accommodates special employment situations, from fellowships and medical research career development awards to Nobel Laureates, high-cost areas, and internationally renowned clinicians. The second principle is to provide ranges large enough to accommodate career progression, geographic differences, sub-specialization, and other special factors.

Clinical specialties were reviewed against available, relevant private sector data. The specialties are grouped into two clinical pay ranges that reflect comparable complexity in salary, recruitment, and retention considerations. The Steering Committee recommends adding new and realigning existing specialties to different clinical pay ranges, as well as changes to the maximum pay ranges.

Tier level | Minimum | Maximum
Pay Table 1—Clinical Specialty
Tier 1 | $121,000 | $315,000
Tier 2 | 145,000 | 335,000
Tier 3 | 165,000 | 350,000
Pay Table 1—Covered Clinical Specialties
Allergy and Immunology; Endocrinology; Endodontics; Family Medicine; General Practice—Dentistry; Geneticist; Geriatrics; Health Informatics; Hospital Epidemiology; Hospitalist; Infectious Diseases; Internal Medicine; Neurology; Palliative Care; Periodontics; Physician Medicine and Rehabilitation/Spinal Cord Injury; Podiatry (General); Preventive Medicine; Primary Care; Prosthodontics; Psychiatry; Rheumatology; Urgent Care; All other specialties or assignments.
Pay Table 2—Clinical Specialty
Tier 1 | $115,587 | $400,000
Tier 2 | 200,000 | 400,000
Tier 3 | 225,000 | 400,000
Pay Table 2—Covered Clinical Specialties
Anesthesiology; Cardiology; Critical Care; Dermatology and MOHS Dermatology; Emergency Medicine; Gastroenterology; Gynecology; Health Informatics; Hematology—Oncology; Nephrology; Neurosurgery; Nuclear Medicine; Ophthalmology; Oral Surgery; Otolaryngology; Pain Management; Pathology—Clinical and Anatomic; Podiatry (Surgery-Forefoot, Rearfoot/Ankle, Advanced Rearfoot/Ankle); Pulmonary; Radiology; Radiation Oncology; Sleep Medicine; Surgery—Cardio-thoracic, General, Hand, Neuro, Orthopedic, Plastic, Thoracic, Transplant, and Vascular; Urology.
Pay Table 3
Tier 1 | $220,000 | $400,000
Tier 2 | 200,000 | 400,000
Tier 3 | 180,000 | 375,000
Pay Table 3—Covered Assignments
Recommendation is to remove Tier 4—Associate Chief of Staff.
Tier 1—Network Chief Medical Officer.
Tier 2—Chief of Staff.
Tier 3—Deputy Network Chief Medical Officer and Deputy Chief of Staff.
Pay Table 4—Executive Assignments
No discussions took place regarding Pay Table 4.
Tier 1 | $145,000 | $310,000
Tier 2 | 145,000 | 295,000
Tier 3 | 145,000 | 285,000
Pay Table 4—Covered Assignments
Deputy Under Secretary for Health; Assistant Under Secretaries for Health; Associate Deputy Under Secretary for Health; Assistant Deputy Under Secretary for Health; Chief Officers (VHA Central Office (CO)); Network Directors; Medical Center Directors; Executive Directors (VHA CO); Deputy to the Assistant Under Secretaries for Health; Chief Consultants (VHA CO); Deputy Chief Officers (VHA CO); Deputy Network Directors; Deputy Medical Center Directors; Deputy Chief Consultants (VHA CO); Deputy to the Executive Directors (VHA CO); VHA CO physicians, dentists, or podiatrists (non-Senior Executive Service equivalents) with an administrative/executive role for more than 50% of their full time equivalent.

Signing Authority

Douglas A. Collins, Secretary of Veterans Affairs, approved and signed this document on July 22, 2025, and authorized the undersigned to sign and submit the document to the Office of the Federal Register for publication electronically as an official document of the Department of Veterans Affairs.

Taylor N. Mattson,
Alternate Federal Register Liaison Officer, Department of Veterans Affairs.

[FR Doc. 2025-14052 Filed 7-24-25; 8:45 am]

BILLING CODE 8320-01-P